DEPARTMENT OF HOMELAND SECURITY

Transportation Security Administration

[Docket No. TSA-2011-0008]

Request for Applicants for Appointment to the Aviation Security Advisory Committee

AGENCY: Transportation Security Administration, DHS.

ACTION: Committee Management; Request for Applicants.

SUMMARY: The Transportation Security Administration (TSA) is requesting individuals who are interested in serving on the Aviation Security Advisory Committee (ASAC) to apply for appointment. ASAC's mission is to provide advice and recommendations to the Administrator of TSA on improving aviation security matters, including developing, refining, and implementing policies, programs, rulemaking and security directives pertaining to aviation security, while adhering to sensitive security guidelines.

DATES: Applications for membership must be submitted to TSA using one of the methods in the ADDRESSES section below on or before March 5, 2018.

ADDRESSES: Applications must be submitted by one of the following means:

• Email: ASAC@tsa.dhs.gov.

• Mail: Dean Walter, ASAC Designated Federal Official, Transportation Security Administration (TSA-28), 601 12th St. South, Arlington, VA 20598-4028.

See SUPPLEMENTARY INFORMATION for application requirements.

FOR FURTHER INFORMATION CONTACT: Dean Walter, ASAC Designated Federal Official, Transportation Security Administration (TSA-28), 601 12th St. South, Arlington, VA 20598-4028, ASAC@tsa.dhs.gov, 571-227-2645.

SUPPLEMENTARY INFORMATION: ASAC is an advisory committee established pursuant to 49 U.S.C. 44946. The committee is composed of individual members representing key constituencies affected by aviation security requirements.

Balanced Membership Plans

ASAC will be composed of not more than 34 individuals appointed by the Administrator of TSA to represent the following 19 key constituencies affected by aviation security requirements, as defined at 49 U.S.C. 44946(c)(1)(C):

1. Air carriers.

2. All-cargo air transportation.

3. Labor organizations representing air carrier employees.

4. Aircraft manufacturers.

5. Airport operators.

6. General aviation.

7. Travel industry.

8. Victims of terrorist acts against aviation.

9. Law enforcement and security experts.

10. Indirect air carriers.

11. Aviation security technology industry (including screening technology and biometrics).

12. Airport-based businesses (including minority-owned small businesses).

13. Passenger advocacy groups.

14. Businesses that conduct security operations at airports (Screening Partnership Program contractors).

15. Labor organizations representing transportation security officers.

16. Airport construction and maintenance contractors.

17. Labor organizations representing employees of airport construction and maintenance contractors.

18. Privacy organizations.

19. Aeronautical repair stations.

ASAC does not have a specific number of members allocated to any membership category and the number of members in a category may change to fit the needs of the Committee, but each organization shall be represented by one individual. Members will serve as representatives and speak on behalf of their respective constituency group, and will not be appointed as Special Government Employees as defined in 18 U.S.C. 202(a). Membership on the Committee is personal to the appointee and a member may not send an alternate to a Committee meeting. Pursuant to 49 U.S.C 44946(c)(3) members shall not receive pay, allowances, or benefits from the Government by reason of their service on the Committee.

Committee Meetings

The Committee typically convenes four times per year; however, additional meetings may be held with the approval of the Designated Federal Official. Due to the sensitive nature of the material discussed, meetings are typically closed to the public. At least one meeting will be open to the public each year. In addition, members are expected to participate on ASAC subcommittees that typically meet more frequently to deliberation and discuss specific aviation matters.

Committee Membership

Committee members are appointed by and serve at the pleasure of the Administrator of TSA for a two-year duration with “staggered terms.” Staggered terms means that approximately one-half of the Committee members' terms expire in alternating years. This ensures continuity and consistency for the Committee. In the year of transition to staggered terms, approximately one-half of the members will be appointed to one-year terms and the other half to two-year terms. In the following year and thereafter, all appointments will be for terms of two years.

Application for Advisory Committee Appointment

Any person wishing to be considered for appointment to ASAC must provide the following:

• Complete professional resume.

• Statement of interest and reasons for application, including the membership category and how you represent a significant portion of that constituency.

• Home and work addresses, telephone number, and email address.

Please submit your application to the Responsible TSA Official in ADDRESSES noted above by March 5, 2018.

Dated: February 6, 2018.
Eddie D. Mayenschein,
Assistant Administrator, Security Policy and Industry Engagement.

[FR Doc. 2018-02798 Filed 2-9-18; 8:45 am]

BILLING CODE 9110-05-P